DEPARTMENT OF STATE

[Public Notice 7995]

Announcement of the Innovation in Arms Control Challenge Under the America Competes Reauthorization Act of 2011

SUMMARY: The Department of State's Bureau of Arms Control, Verification and Compliance (AVC) announces the following challenge: How Can the Crowd Support Arms Control Transparency Efforts? This challenge is the first “Innovation in Arms Control Challenge,” with the goal of spurring innovation, and developing scientific and technological options that will provide additional transparency and information related to compliance with existing or future arms control, nonproliferation and disarmament regimes.

DATES: The submission period for entries begins 3 p.m. EDT, August 28, 2012, and ends 5 p.m. EDT, October 26, 2012. Winners will be announced during the week of December 3, unless the term of the Contest is extended by DOS.

FOR FURTHER INFORMATION CONTACT: Jamie Mannina, Special Assistant for Public Affairs and Public Diplomacy, U.S. Department of State, Bureau of Arms Control, Verification and Compliance, 2201 C Street NW., Washington, DC 20520; Telephone (202) 647-7939; ManninaJF@state.gov.

SUPPLEMENTARY INFORMATION: This Federal Register notice is required under the Section 105 of the America COMPETES Reauthorization Act of 2011.

Competition Details

1. Subject of the Challenge: This Challenge seeks creative ideas from the general public to use the tools and devices commonly available to them to support arms control transparency efforts.

2. Prize: There is a guaranteed award. The winning submission will be announced in a Department of State press release. The awards will be paid to the best submission(s) as solely determined by the Department of State. The total payout will be $10,000, with at least one award being no smaller than $5,000 and no award being smaller than $1,000.

3. Challenge Rules:

• a. Eligibility to participate: To be eligible to win a prize, in accordance with the America COMPETES Act, an individual or entity shall have registered to participate in the competition, comply with all requirements and rules related to this competition, and in the case of a private entity, shall be incorporated in and maintaining a primary place of business in the United States, and in the case of an individual (participating singly or in a team) shall be a citizen or permanent resident of the United States. In addition, an individual or entity may not be a Federal entity or a Federal employee acting within the scope of their employment. An individual or entity shall not be deemed ineligible because the individual or entity used Federal facilities or consulted with Federal employees during the competition if the facilities and employees are made available to all individuals and entities participating in the competition on an equitable basis. While submissions from ineligible Solvers are welcome and may be the subject of further interest, these will not be eligible to receive awards. If you have a question about eligibility, please refer to the following Web site: [https://www.innocentive.com/ar/challenge/9933144].

• b. Intellectual Property: The Solvers are not required to transfer exclusive intellectual property rights to the Seeker. Rather, by submitting a proposal, the Solvers grant to the Seeker a royalty-free, perpetual, and non-exclusive license to use any information included in this proposal.

• c. Liability: Registered participants will be required to agree to assume any and all risks and waive claims against the Federal Government and its related entities, except in the case of willful misconduct, for any injury, death, damage, or loss of property, revenue, or profits, whether direct, indirect, or consequential, arising from participation in the competition, whether the injury death, damage, or loss arises through negligence or otherwise.

• After the Challenge deadline, the Department of State will complete the review process and make a decision with regards to the Winning Solution(s) as described below. All Solvers that submitted a proposal will be notified on the status of their submissions; however, no detailed evaluation of individual submissions will be provided.

4. Process for participants to register: All Contest participants must enter the Challenge through the Challenge Web page on [https://www.innocentive.com/ar/challenge/9933144] by 5 p.m. EDT on October 26, 2012. Submissions will be accepted starting at 3 p.m. EDT on August 28, 2012. Contest participants should review all contest rules and eligibility requirements.

5. Basis on which the winners will be selected:

Winners will be selected based upon provision of the following:

1. A description of the proposed mechanism or idea to support arms control transparency efforts. Processes, incentives, and technologies must, in theory, be practical and implementable at scale throughout the world. Detailed specifications are not required, but the idea should be described well enough to evaluate feasibility.

2. Rationale for why the proposed idea will work in the real world as feasibility will be a major factor in the review process.

3. Any supporting information, publications, real-world use cases, or examples that reinforce the validity of the proposed idea.

Dated: August 16, 2012.
Rose E. Gottemoeller,
Acting Under Secretary of State, Arms Control and International Security, Department of State.

[FR Doc. 2012-21209 Filed 8-27-12; 8:45 am]

BILLING CODE 4710-27-P